DEPARTMENT OF JUSTICE

Notice of Lodging of Consent Decree Under the Comprehensive Environmental Response, Compensation, and Liability Act

Notice is hereby given that on July 24, 2009, a proposed Consent Decree was lodged with the United States District Court for the District of Massachusetts in United States v. American Premier Underwriters, Inc., Civil Action No. 05-CV-12189-RWZ.

In this action, the United States, on November 1, 2005, filed a complaint, under Sections 107(a) and 113(g)(2) of the Comprehensive Environmental Response, Compensation, and Liability Act (“CERCLA”), 42 U.S.C. 9607(a) and 9613(g)(2), against American Premier Underwriters, Inc. (“APU”), seeking reimbursement of response costs incurred for response actions taken in connection with the release or threatened release of hazardous substances at the Morses Pond Culvert Superfund Site in Wellesley, Massachusetts (the “Site”) and a declaration that APU is liable for future response costs incurred in connection with the Site. The proposed Consent Decree provides that APU will pay the United States $2,975,000, plus interest on that amount from May 27, 2009 to the date of payment. The proposed Consent Decree has a standard covenant not to sue under Section 107(a) of CERCLA, 42 U.S.C. 9607(a), for Past Response Costs, which are defined as the costs that the United States Environmental Protection Agency (“EPA”), or the United States Department of Justice on behalf of EPA, pays at or in connection with the Site through the date of entry of the Consent Decree, as well as all accrued interest on such costs. The Decree has a standard reservation of rights provision. The Decree also provides that APU is entitled to contribution protection with respect to Past Response Costs pursuant to Section 113(f)(2) of CERCLA, 42 U.S.C. 9613(f)(2), or as may otherwise be provided by law.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. American Premier Underwriters, Inc., D.J. Ref. 90-11-3-07035. Comments may also be submitted by e-mail to pubcomment-ees.enrd@usdoj.gov. A copy of the comments should also be sent to Donald Frankel, Trial Attorney, Environmental Enforcement Section, Department of Justice, Suite 616, One Gateway Center, Newton, MA 02458.

The Consent Decree may be examined at the Office of the United States Attorney, District of Massachusetts, U.S. Courthouse, Suite 9200, One Courthouse Way, Boston, MA 02210 (contact Barbara Healy Smith). During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $4.00 (25 cents per page reproduction cost) payable to the U.S. Treasury (if the request is by fax or e-mail, forward a check to the Consent Decree Library at the address stated above).

Maureen Katz,
Assistant Chief, Environmental Enforcement Section, Environment and Natural Resources Division.

[FR Doc. E9-18004 Filed 7-28-09; 8:45 am]

BILLING CODE 4410-15-P